DEPARTMENT OF DEFENSE

Department of the Navy

[Docket ID: USN-2026-HQ-0037]

Proposed Collection; Comment Request

AGENCY: Department of the Navy, Department of Defense (DoD).

ACTION: 60-Day information collection notice.

SUMMARY: In compliance with the Paperwork Reduction Act of 1995, the Department of the Navy (DoN) announces the revision of an approved public information collection and seeks public comment on the provisions thereof. Comments are invited on: whether the collection of information is necessary for the proper performance of the functions of the agency, including whether the information shall have practical utility; the accuracy of the agency's estimate of the burden of the proposed information collection; ways to enhance the quality, utility, and clarity of the information to be collected; and ways to minimize the burden of the information collection on respondents, including through the use of automated collection techniques or other forms of information technology.

DATES: Consideration will be given to all comments received by April 13, 2026

ADDRESSES: You may submit comments, identified by docket number and title, by any of the following methods:

Federal eRulemaking Portal: http://www.regulations.gov. Follow the instructions for submitting comments.

Mail: Department of Defense, Office of the Director of Administration and Management, Privacy, Civil Liberties, and Transparency Directorate, Regulatory Division, 4800 Mark Center Drive, Mailbox #24, Suite 05F16, Alexandria, VA 22350-1700.

Instructions: All submissions received must include the agency name, docket number and title for this Federal Register document. The general policy for comments and other submissions from members of the public is to make these submissions available for public viewing on the internet at http://www.regulations.gov as they are received without change, including any personal identifiers or contact information.

FOR FURTHER INFORMATION CONTACT: To request more information on this proposed information collection or to obtain a copy of the proposal and associated collection instruments, please write to the OPNAV Forms/Information Collections Office (DNS-14), 2000 Navy Pentagon, Room 4E563, Washington, DC 20350-2000, ATTN: Ms. Ashley Alford, or call 703-614-7585.

SUPPLEMENTARY INFORMATION:

Title; Associated Form; and OMB Number: Naval Reserve Officers Training Corps (NROTC) Programs Forms; OMB Control Number 0703-0026.

Needs and Uses: DON collects information to select the highest-quality candidates for the Naval Reserve Officers Training Corps (NROTC) program and its associated programs. This collection is necessary to assess an applicant's eligibility and qualifications for a commission in the U.S. Naval Reserve. The collection is authorized by various sections of Title 10, United States Code, and other federal regulations that govern the appointment of officers.

The information is used by selection boards to holistically evaluate an applicant's background, including their academic performance, leadership experience, physical fitness, and moral character. The application process is primarily conducted online, where applicants provide information and request evaluations from school officials and teachers. The collection includes specialized forms for different program paths, such as tattoo screenings for Marine Corps applicants and specific agreements for SSMP participants. Data is also collected to manage participants in prerequisite programs like the NROTC, New Student Indoctrination and the NROTC Preparatory Program.

The respondents are prospective and current students applying to these programs, as well as the school officials and other adults providing evaluations on their behalf. Without this information, the ability of selection boards to effectively assess an applicant's potential for success as a future Naval officer would be severely limited, hindering the selection of the best-qualified candidates.

Affected Public: Individuals or households.

Annual Burden Hours: 70,000.

Number of Respondents: 14,000.

Responses per Respondent: 10.

Annual Responses: 140,000.

Average Burden per Response: 30 minutes.

Frequency: On occasion.

Dated: February 9, 2026.
Stephanie J. Bost,
Alternate OSD Federal Register Liaison Officer, Department of Defense.

[FR Doc. 2026-02729 Filed 2-10-26; 8:45 am]

BILLING CODE 6001-FR-P